DEPARTMENT OF HEALTH AND HUMAN SERVICES

Centers for Disease Control and Prevention

[60Day-11-11EP]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Daniel Holcomb, CDC Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Validation of an Occupational Safety and Health Questionnaire—New—National Institute for Occupational Safety and Health (NIOSH), Centers for Disease Control and Prevention (CDC).

Background and Brief Description

The mission of the National Institute for Occupational Safety and Health (NIOSH) is to promote safety and health at work for all people through research and prevention. Under Public Law 91-596, Section 20 and 22 (section 20-22, Occupational Safety and Health Act of 1970), NIOSH has the responsibility to conduct research to advance the health and safety of workers. In this capacity, NIOSH will administer a questionnaire designed to assess differences in approaches to and perspectives of workplace safety between American-born and Latino immigrant workers.

The rapid growth of the Latino immigrant population in the United States has increased the demand for Spanish-language occupational safety and health training materials. Typically, this need has been met by translating existing, English-language training materials into Spanish rather than developing new materials specifically designed for Latino immigrants. Critics suggest that such efforts frequently fall short of the mark because of poor translations and a failure to address the cultural, legal, educational and socio-economic realities that differentiate Latino immigrant workers from the American-born workers for whom the training materials were originally developed. The failure of current occupational safety and health training approaches with Latino immigrants is highlighted by data from Bureau of Labor Statistics indicating that significant occupational health disparities exist between Latino immigrant workers and American-born workers.

A major obstacle to designing and assessing the impact of occupational safety and health training interventions with Latino immigrants is the lack of a rigorously validated questionnaire addressing the issues believed to be contributing to the occupational health disparities experienced by this group. In order to better understand some of the factors that may be contributing to the persistent occupational health disparities between Latino immigrant and American-born workers, NIOSH is developing a questionnaire that focuses on important occupational safety and health issues such as risk perception, risk acceptance, and workplace coping strategies. The content of this questionnaire was guided, in part, by data collected from focus groups conducted with both Latino immigrants and American-born workers. Additionally, a review of the existing literature and feedback from experts in the field of occupational health disparities contributed to questionnaire content.

For validation purposes, this questionnaire will be administered to a sample of approximately 600 workers employed in a broad range of industries. In order to account for differences in level of acculturation, 200 of the workers will be Latino immigrants who have been in the United States less than 2 years and 200 of the workers will be Latino immigrants who have been in the United States more than 5 years. An additional 200 American-born workers will be given the questionnaire so that their responses may be contrasted with those of the Latino immigrants. Half of the workers will be male and the other half female. In order to account for potential regional differences, 300 of the workers will be from New Mexico, a state that has historically always had a large Latino population and 300 workers will be from Ohio, a state that has only recently experienced a large increase in its Latino population. The sample sizes are not based upon power analyses comparing expected group differences. Rather, the sample sizes are based upon recommendations related to validation of questionnaires, both on the basis of individual items and the analysis of the underlying structure elements.

Participants for this data collection will be recruited with the assistance of contractors who have successfully performed similar tasks for NIOSH in the past. The Latino immigrants will be assessed first so that an American-born workers sample can be recruited that can be matched in terms of occupation and industry. Depending upon literacy level and/or individual preferences, the questionnaire will be administered verbally or in “paper and pencil” format to participants in either English or Spanish. Based upon previous experiences working with these populations, it is estimated that each questionnaire will take approximately 75 minutes complete

The purpose of this information collection is to validate a questionnaire assessing factors that are thought to contribute to the persistent occupational health disparities experienced by Latino immigrant workers. Once validated, this questionnaire can be used in other efforts to assess the impact of occupational safety and health interventions aimed at the Latino immigrant community. Without the benefit of this data, NIOSH will be unable to assess variables related to the occupational health disparities experienced by Latino immigrants or to assess the impact of occupational safety and health training interventions targeted at this group.

Once this study is complete, results will be made available via various means including print publications and the agency internet site. NIOSH expects to complete data collection no later than March 2012. There is no cost to respondents other than their time.

Estimated Annualized Burden Hours
| Number of respondents | Number of responses per respondent | Average burden per response (in hours) | Total burden (in hours)
Respondents | 600 | 1 | 1.25 | 750
Total |  |  |  | 750

Catina Conner,
Acting Reports Clearance Officer, Centers for Disease Control and Prevention.

[FR Doc. 2011-17410 Filed 7-11-11; 8:45 am]

BILLING CODE 4163-18-P